DEPARTMENT OF THE INTERIOR

Bureau of Land Management

[17X LLWO600000.L18200000.XP0000]

2017 Second National Call for Nominations for Resource Advisory Councils and Other BLM Land Management Advisory Committees

AGENCY: Bureau of Land Management, Interior.

ACTION: Notice of call for nominations.

SUMMARY: The purpose of this Notice is to request a second call for public nominations for the Bureau of Land Management (BLM) Resource Advisory Councils (RAC) that have members whose terms are scheduled to expire or have expired. RACs provide advice and recommendations to the BLM on land use planning and management of the National System of Public Lands within their geographic areas.

DATES: All nominations must be received no later than December 1, 2017.

ADDRESSES: Nominations and completed applications for RACs should be sent to the appropriate BLM offices listed in the SUPPLEMENTARY INFORMATION section of this notice.

FOR FURTHER INFORMATION CONTACT: Twinkle Thompson, BLM Communications, 1849 C Street NW., Room 5645, Washington, DC 20240, 202-208-7301.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784 and include the following three membership categories:

Category One—Holders of Federal grazing permits and representatives of organizations associated with energy and mineral development, the timber industry, transportation or rights-of-way, developed outdoor recreation, off-highway vehicle use, and commercial recreation;

Category Two—Representatives of nationally or regionally recognized environmental organizations, archaeological and historic organizations, dispersed recreation activities, and wild horse and burro organizations; and

Category Three—Representatives of State, county, or local elected office, employees of a State agency responsible for management of natural resources, representatives of Indian tribes within or adjacent to the area for which the council is organized, representatives of academia who are employed in natural sciences, and the public-at-large.

Individuals may nominate themselves or others. Nominees must be residents of the State in which the RAC has jurisdiction. The BLM will evaluate nominees based on their education, training, experience, and knowledge of the geographic area of the RAC. Nominees should demonstrate a commitment to collaborative resource decision-making.

The following must accompany all nominations:

—Letters of reference from represented interests or organizations;

—A completed RAC application; and

—Any other information that addresses the nominee's qualifications.

Simultaneous with this Notice, BLM State Offices will issue press releases providing additional information for submitting nominations, with specifics about the number and categories of member positions available for each RAC in the State.

Before including any address, phone number, email address, or other personal identifying information in the application, nominees should be aware this information may be made publicly available at any time. While the nominee can ask to withhold the personal identifying information from public review, BLM cannot guarantee that it will be able to do so.

Nominations and completed applications for RACs should be sent to the appropriate BLM offices listed below:

Alaska

Alaska RAC

Lesli Ellis-Wouters, BLM Alaska State Office, 222 West 7th Avenue, #13, Anchorage, AK 99513, 907-271-4418.

California

California Desert District Advisory Council

Steve Razo, BLM California Desert District, 22835 Calle San Juan De Los Lagos, Moreno Valley, CA 92553, 951-697-5217.

Northern California RAC

Jeff Fontana, BLM Northern California District, 2550 Riverside Drive, Susanville, CA 96130, 530-252-5332.

Carrizo Plain National Monument Advisory Committee

Serena Baker, BLM Central California District Office, 5152 Hillsdale Circle, El Dorado Hills, CA 95762, 916-941-3146.

Idaho

Boise District RAC

Michael Williamson, BLM Boise District Office, 3948 South Development Avenue, Boise, ID 83705, 208-384-3393.

Montana and Dakotas

Central Montana RAC

Jonathan Moor, BLM Lewistown Field Office, 920 Northeast Main Street, Lewistown, MT 59457, 406-538-1943.

Dakotas RAC

Mark Jacobsen, BLM Eastern Montana/Dakotas District, 111 Garryowen Road, Miles City, MT 59301, 406-233-2800.

Eastern Montana RAC

Mark Jacobsen, BLM Eastern Montana/Dakotas District, 111 Garryowen Road, Miles City, MT 59301, 406-233-2800.

Western Montana RAC

David Abrams, BLM Butte Field Office, 106 North Parkmont, Butte, MT 59701, 406-533-7617.

New Mexico

Pecos District RAC

Glen Garnand, BLM Pecos District Office, 2909 West Second Street, Roswell, NM 88201, 575-627-0209.

Oregon/Washington

John Day-Snake RAC

Lisa Clark, BLM Prineville District Office, 3050 NE 3rd Street, Prineville, OR 97754, 541-416-6864.

Southeast Oregon RAC

Larisa Bogardus, BLM Lakeview District Office, 1301 South G Street, Lakeview, OR 97630, 541-947-6237.

Southwest Oregon RAC

Christina Breslin, BLM Medford District Office, 3040 Biddle Road, Medford, OR 97504, 541-618-2371.

Steens Mountain Advisory Council

Tara Thissell, BLM Burns District Office, 28910 Highway 20 West, Hine, OR 97738, 541-573-4519.

Utah

Utah RAC

Lola Bird, BLM Utah State Office, 440 West 200 South, Suite 500, Salt Lake City, UT 84101, 801-539-4033.

Grand Staircase-Escalante National Monument Advisory Committee

Larry Crutchfield, BLM Grand Staircase-Escalante National Monument Office, 669 South Highway 89 A, Kanab, UT 84741, 435-644-1209.

Wyoming

Wyoming RAC

Kristen Lenhardt, BLM Wyoming State Office, 5353 Yellowstone Road, P.O. Box 1828, Cheyenne, WY 82003, 307-775-6015.

Authority: 43 CFR 1784.4-1.

John F. Ruhs,
Acting Deputy Director.

[FR Doc. 2017-23802 Filed 10-31-17; 8:45 am]

BILLING CODE 4310-84-P